DEPARTMENT OF TRANSPORTATION

Federal Highway Administration

Notice of Final Federal Agency Actions on Proposed SR-109 (Portland Bypass) Project in Tennessee

AGENCY: Federal Highway Administration (FHWA), Department of Transportation (DOT).

ACTION: Notice of Limitation on Claims for Judicial Review of Actions by FHWA and Other Federal Agencies.

SUMMARY: This notice announces actions taken by FHWA and other Federal agencies that are final within the meaning of 23 U.S.C. 139(l)(1). The actions relate to a proposed highway project, State Route (SR) 109 (Portland Bypass) from SR-109 near SR-76 to SR-109 North of Downtown Portland in Sumner County, Tennessee. Those actions grant licenses, permits, and approvals for the project.

DATES: By this notice, FHWA is advising the public of final agency actions subject to 23 U.S.C. 139(l)(1). A claim seeking judicial review of the Federal agency actions on the highway project will be barred unless the claim is filed on or before December 29, 2017. If the Federal law that authorizes judicial review of a claim provides a time period of less than 150 days for filing such claim, then that shorter time period still applies.

FOR FURTHER INFORMATION CONTACT: For FHWA: Ms. Theresa Claxton; Planning and Program Management Team Leader; Federal Highway Administration; Tennessee Division Office; 404 BNA Drive, Building 200, Suite 508; Nashville, Tennessee 37217; Telephone (615) 781-5770; email: Theresa.Claxton@dot.gov. FHWA Tennessee Division Office's normal business hours are 7:30 a.m. to 4 p.m. (Central Time). You may also contact Ms. Susannah Kniazewycz, Environmental Division Director, Tennessee Department of Transportation (TDOT), James K. Polk Building, Suite 900, 505 Deaderick Street, Nashville, Tennessee 37243-0334; Telephone (615) 741-3655, Susannah.Kniazewycz@tn.gov. The TDOT Environmental Division's normal business hours are 8 a.m. to 5 p.m. (Central Time).

SUPPLEMENTARY INFORMATION: Notice is hereby given that FHWA and other Federal agencies have taken final agency actions by issuing licenses, permits, and approvals for the following highway project in the State of Tennessee: SR-109 (Portland Bypass), Project Number NH-109(27), PIN 106634.01, Sumner County, Tennessee. The proposed action will improve local, regional, and statewide mobility by improving traffic flow on the SR-109 corridor through Portland. The Selected Alternative proposes the construction of four 12-foot traffic lanes, 12-foot outside shoulders (10-foot paved, 2-foot gravel), and a 48-foot depressed grass median, which includes 6-foot inside shoulders (4-foot paved, 2-foot gravel), within an approximate 250-foot right-of-way (ROW). The design speed of the roadway is 60 miles per hour (mph), with the posted speeds potentially being lower. Portions of the corridor include: (1) A flyover ramp at the southern terminus of the project to provide unimpeded access for southbound traffic on the existing SR-109 merging with the Portland Bypass traffic before continuing south on existing SR-109; (2) A grade separated, partial folded diamond interchange at SR-52; (3) Access via at-grade intersections for several local roads intersected by the proposed Portland Bypass route, including: SR-76, Jackson Road, Collins Road (west of bypass), College Street, T.G.T. Road (west of bypass), and Kenwood Drive (west of bypass); (4) At-Grade Access Points with New Connector Roads at Kirby Drive and Woods Road; (5) A section of SR-52 will be widened to five lanes from near West Market Street westward to west of the proposed SR-52/Portland Bypass interchange. This widening is needed to accommodate an increase in traffic expected on that section of SR-52 once the Portland Bypass is constructed.

The actions by the Federal agencies, and the laws under which such actions were taken, are described in the Environmental Assessment (EA) for the project, approved on September 14, 2015, in the FHWA Finding of No Significant Impact (FONSI) issued on July 3, 2017, and in other documents in the FHWA project records. The EA, FONSI, and other project records are available by contacting the FHWA or TDOT at the addresses provided above. The FHWA EA and FONSI can be viewed and downloaded from the project Web site at http://www.tn.gov/tdot/topic/sr-109-portland-bypass, or viewed at the TDOT—Environmental Division, James K. Polk Building, Suite 900, 505 Deaderick Street, Nashville, Tennessee 37243-0334, the TDOT Region 3 Project Development Office, 6601 Centennial Boulevard, Nashville, Tennessee, 37243, or the Portland Public Library, 301 Portland Boulevard, Portland, Tennessee, 37148.

This notice applies to all Federal agency decisions as of the issuance date of this notice and all laws under which such actions were taken, including but not limited to:

1. General: National Environmental Policy Act (NEPA) [42 U.S.C. 4321-4351]; Federal-Aid Highway Act [23 U.S.C. 109 and 23 U.S.C. 128].

2. Air: Clean Air Act [42 U.S.C. 7401-7671(q)].

3. Land: Section 4(f) of the Department of Transportation Act of 1966 [23 U.S.C. 138 and 49 U.S.C. 303].

4. Wildlife: Endangered Species Act [16 U.S.C. 1531-1544 and Section 1536]; Fish and Wildlife Coordination Act [16 U.S.C. 661-667(d)]; Migratory Bird Treaty Act [16 U.S.C. 703-712].

5. Historic and Cultural Resources: Section 106 of the National Historic Preservation Act of 1966, as amended [16 U.S.C. 470(f) et seq.].

6. Social and Economic: Civil Rights Act of 1964 [42 U.S.C. 2000(d)-2000(d)(1)]; Farmland Protection Policy Act (FPPA) [7 U.S.C. 4201-4209].

7. Wetlands and Water Resources: Clean Water Act (Section 404, Section 401, and Section 319) [33 U.S.C. 1251-1377].

8. Hazardous Materials: Comprehensive Environmental Response, Compensation, and Liability Act (CERCLA) [42 U.S.C. 9601-9675].

9. Executive Orders: E.O. 11990 Protection of Wetlands; E.O. 11988 Floodplain Management; E.O. 13112 Invasive Species; E.O. 12898 Federal Actions to Address Environmental Justice in Minority Populations and Low Income Populations; E.O. 13175 Consultation and Coordination with Indian Tribal Governments; E.O. 11514 Protection and Enhancement of Environmental Quality.

(Catalog of Federal Domestic Assistance Program Number 20.205, Highway Planning and Construction. The regulations implementing Executive Order 12372 regarding intergovernmental consultation on Federal programs and activities apply to this program.)

Authority: 23 U.S.C. 139(l)(1).

Issued on: July 25, 2017.
Pamela M. Kordenbrock,
Division Administrator, Nashville, Tennessee.

[FR Doc. 2017-16142 Filed 7-31-17; 8:45 am]

BILLING CODE 4910-RY-P